ENVIRONMENTAL PROTECTION AGENCY

40 CFR Part 62

[AL-058-1-200312b; FRL-7444-8]

Approval and Promulgation of State Plan for Designated Facilities and Pollutants: Alabama

AGENCY: Environmental Protection Agency (EPA).

ACTION: Proposed rule.

SUMMARY: EPA proposes to approve the section 111(d)/129 State Plan submitted by the Alabama Department of Environmental Management (ADEM) for the State of Alabama on February 21, 2002, for implementing and enforcing the Emissions Guidelines applicable to existing Commercial and Industrial Solid Waste Incinerators. The Plan was submitted by ADEM to satisfy Federal Clean Air Act requirements. In the Final Rules Section of this Federal Register, the EPA is approving the Alabama State Plan revision as a direct final rule without prior proposal because the Agency views this revision as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before February 27, 2003.

ADDRESSES: Written comments should be addressed to: Joydeb Majumder, EPA Region 444, Air Toxics and Management Branch, 61 Forsyth Street, SW, Atlanta, Georgia 30303-8960. Copies of documents relative to this action are available for inspection during normal business hours at the above listed Region 4 location. Anyone interested in examining this document should make an appointment with the office at least 24 hours in advance.

FOR FURTHER INFORMATION CONTACT: Joydeb Majumder at (404) 562-9121 or Sean Lakeman at (404) 562-9043.

SUPPLEMENTARY INFORMATION: For additional information see the direct final rule which is published in the rules section of this Federal Register.

Dated: January 16, 2003.
A. Stanley Meiburg,
Acting Regional Administrator, Region 4.

[FR Doc. 03-1868 Filed 1-27-03; 8:45 am]

BILLING CODE 6560-50-P